DEPARTMENT OF TRANSPORTATION

Federal Aviation Administration

14 CFR Part 39

[Docket No. 2003-SW-13-AD; Amendment 39-13180; AD 2003-11-21]

RIN 2120-AA64

Airworthiness Directives; Eurocopter France Model AS332 C, L, and L1 Helicopters

AGENCY: Federal Aviation Administration, DOT.

ACTION: Final rule; request for comments.

SUMMARY: This amendment adopts a new airworthiness directive (AD) for Eurocopter France (Eurocopter) Model AS332 C, L, and L1 helicopters. This action requires revising the Rotorcraft Flight Manual (RFM) Limitations section if certain fuel control units are installed. This AD is prompted by the discovery of an anomaly in certain fuel control units that may lead to inadequate fuel flow in single-engine flight. This condition, if not corrected, could result in failure of the engine to develop the maximum 2½ minute one engine inoperative (OEI) power, reduced helicopter performance, and subsequent loss of control of the helicopter during OEI operation.

DATES: Effective June 26, 2003.

The incorporation by reference of certain publications listed in the regulations is approved by the Director of the Federal Register as of June 26, 2003.

Comments for inclusion in the Rules Docket must be received on or before August 11, 2003.

ADDRESSES: Submit comments in triplicate to the Federal Aviation Administration (FAA), Office of the Regional Counsel, Southwest Region, Attention: Rules Docket No. 2003-SW-13-AD, 2601 Meacham Blvd., Room 663, Fort Worth, Texas 76137. You may also send comments electronically to the Rules Docket at the following address: 9-asw-adcomments@faa.gov.

The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., Suite 700, Washington, DC.

FOR FURTHER INFORMATION CONTACT: Ed Cuevas, Aviation Safety Engineer, FAA, Rotorcraft Directorate, Regulations Group, Fort Worth, Texas 76193-0111, telephone (817) 222-5355, fax (817) 222-5961.

SUPPLEMENTARY INFORMATION: The Direction Generale De L'Aviation Civile (DGAC), the airworthiness authority for France, notified the FAA that an unsafe condition may exist on Eurocopter Model AS332 C, L, and L1 helicopters, with Turbomeca Makila 1A and Makila 1A1 engines installed with fuel control unit (FCU), part number (P/N) 0 164 16 820 0 or P/N 0 164 16 835 0, having serial numbers (S/N) 100M through 525M, except for fuel control units with S/N 168M, 323M, 369M, 371M, 378M, 382M, 396M, 407M, 422M, 445M, 449M, 460M, 469M, 472M, 479M, 488M, 499M, 513M, 518M, 523M, or FCUs that have incorporated Turbomeca Service Bulletin No. 298 73 0802, dated September 17, 2002. The DGAC advises that their AD was issued following the discovery of an anomaly affecting the maximum fuel flow limit adjustment on some Makila 1A and 1A1 engines. This anomaly leads to a fuel flow reduction outside the tolerance limits and can have an effect on single-engine flight performance.

Eurocopter has issued Alert Telex No. 73.00.01, dated October 2, 2002, which specifies a weight limitation for takeoff from helipads; a weight limitation in hover flight; and a rate of climb limit in certain portions of the approved flight envelope. The DGAC classified this alert telex as mandatory and issued AD 2002-551(A), dated November 13, 2002, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This unsafe condition is likely to exist or develop on other helicopters of the same type designs registered in the United States. Therefore, this AD is being issued to prevent failure of the engine to develop the maximum 2½ minute OEI power, reduced helicopter performance, and subsequent loss of control of the helicopter during OEI operation. This AD requires revising the RFM Limitations section in certain conditions if certain FCUs are installed. The actions must be done in accordance with the alert telex described previously. The short compliance time involved is required because the previously described critical unsafe condition can adversely affect the power available for single engine operations of the helicopter. Therefore, revising the RFM for certain helicopters is required before further flight, and this AD must be issued immediately.

Since a situation exists that requires the immediate adoption of this regulation, it is found that notice and opportunity for prior public comment hereon are impracticable, and that good cause exists for making this amendment effective in less than 30 days.

On July 10, 2002, the FAA issued a new version of 14 CFR part 39 (67 FR 47997, July 22, 2002), which governs the FAA's AD system. The regulation now includes material that relates to altered products, special flight permits, and alternative methods of compliance. Because we have now included this material in part 39, we no longer need to include it in each individual AD.

The FAA estimates that this AD will affect 4 helicopters and determining the applicability of this AD will take approximately 1 work hour at an average labor rate of $60 per work hour. Based on these figures, the total cost impact of the AD on U.S. operators will be $240, assuming no affected FCUs will be discovered.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2003-SW-13-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-11-21 Eurocopter France: Amendment 39-13180. Docket No. 2003-SW-13-AD.

Applicability: AS332 C, L, and L1 helicopters, certificated in any category, with Turbomecca Makila 1A or Makila 1A1 engines installed with fuel control unit (FCU), part number (P/N) 0 164 16 820 0 or P/N 0 164 16 835 0, having serial numbers (S/N) 100 through 525, with a suffix of “M”, except:

(1) FCUs with S/N 168M, 323M, 369M, 371M, 378M, 382M, 396M, 407M, 422M, 445M, 449M, 460M, 469M, 472M, 479M, 488M, 499M, 513M, 518M, 523M; or

(2) FCUs that have been tested and found to provide the correct fuel flow rate in accordance with Turbomeca Service Bulletin No. 298 73 0802, dated September 17, 2002.

Compliance: Before further flight, unless accomplished previously.

To account for the inability of the engine to develop the maximum 2½ minute one engine inoperative (OEI) power, reduced helicopter performance, and subsequent loss of control of the helicopter during OEI operation, accomplish the following:

(a) Revise the Limitations section of the Rotorcraft Flight Manual in accordance with the Accomplishment Instructions, paragraph 2.A. of Eurocopter France Alert Telex No. 73.00.01, dated October 2, 2002.

(b) To request a different method of compliance or a different compliance time for this AD, follow the procedures in 14 CFR 39.19. Contact the Regulations Group, Rotorcraft Directorate, FAA for information about previously approved alternative methods of compliance.

(c) Special flight permits will not be issued.

(d) The Rotorcraft Flight Manual revision shall be done in accordance with Eurocopter France Alert Telex No. 73.00.01, dated October 2, 2002. This incorporation by reference was approved by the Director of the Federal Register in accordance with 5 U.S.C. 552(a) and 1 CFR part 51. Copies may be obtained from Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(e) This amendment becomes effective on June 26, 2003.

Note: The subject of this AD is addressed in Direction Generale De L'Aviation Civile (France) AD 2002-551(A), dated November 13, 2002.

Issued in Fort Worth, Texas, on May 27, 2003.
David A. Downey,
Manager, Rotorcraft Directorate, Aircraft Certification Service.

[FR Doc. 03-14135 Filed 6-10-03; 8:45 am]

BILLING CODE 4910-13-P